DEPARTMENT OF ENERGY

Federal Energy Regulatory Commission

[Docket No. EG00-140-000, et al.]

NEPA Energy LP, et al.; Electric Rate and Corporate Regulation Filings

May 10, 2000.

Take notice that the following filings have been made with the Commission:

1. NEPA Energy LP

[Docket No. EG00-140-000]

Take notice that on April 26, 2000, NEPA Energy LP (NEPA) filed with the Federal Energy Regulatory Commission (Commission) an application for determination of exempt wholesale generator status pursuant to part 365 of the Commission's regulations.

NEPA acquired a 94 MW eligible facility (Facility) located in North East Pennsylvania on March 29, 2000. NEPA is a limited partnership with NEPA Energy LLC as the general partner. NEPA Energy LLC is a wholly-owned subsidiary of Welch Food, Inc., a cooperative (Welch). NEPA states that once the Facility is operational, NEPA will be engaged directly and exclusively in the business of owning and/or operating all or part of an eligible facility (as defined in section 32(a)(1) of the Public Utility Holding Company Act), be selling electricity at wholesale and making no retail electricity sales.

Comment date: May 31, 2000, in accordance with Standard Paragraph E at the end of this notice. The Commission will limit its consideration of comments to those that concern the adequacy or accuracy of the application.

2. Indianapolis Power & Light Company

[Docket Nos. ER00-1026-002 and OA00-4-002]

Take notice that on May 1, 2000, Indianapolis Power & Light Company filed a letter in compliance with the Commission's orders issued February 24, 2000 in the above-referenced dockets, 90 FERC ¶ 61,180 (2000) and 90 FERC ¶ 61,174 (2000).

Comment date: May 22, 2000, in accordance with Standard Paragraph E at the end of this notice.

3. Jack A. Fusco

[Docket No. ID-3483-000]

Take notice that on April 28, 2000, Jack A. Fusco filed with the Federal Energy Regulatory Commission an Application for Authority to Hold Interlocking Positions pursuant to section 305(b) of the Federal Power Act.

Comment date: June 9, 2000, in accordance with Standard Paragraph E at the end of this notice.

4. W. Thaddeus Miller

[Docket No. ID-3484-000]

Take notice that on April 28, 2000, W. Thaddeus Miller filed with the Federal Energy Regulatory Commission an Application for Authority to Hold Interlocking Positions pursuant to section 305(b) of the Federal Power Act.

Comment date: June 9, 2000, in accordance with Standard Paragraph E at the end of this notice.

5. Scott B. Helm

[Docket No. ID-3485-000]

Take notice that on April 28, 2000, Scott B. Helm filed with the Federal Energy Regulatory Commission an Application for Authority to Hold Interlocking Positions pursuant to section 305(b) of the Federal Power Act.

Comment date: June 9, 2000, in accordance with Standard Paragraph E at the end of this notice.

6. E. Thomas Webb

[Docket No. ID-3494-000]

Take notice that on April 28, 2000, E. Thomas Webb filed with the Federal Energy Regulatory Commission an Application for Authority to Hold Interlocking Positions pursuant to section 305(b) of the Federal Power Act.

Comment date: June 9, 2000, in accordance with Standard Paragraph E at the end of this notice.

7. James S. Potter

[Docket No. ID-3495-000]

Take notice that on May 1, 2000 James S. Potter filed with the Federal Regulatory Energy Commission an Abbreviated Application for Authorization to Hold Interlocking Positions pursuant to section 305(b) of the Federal Power Act.

Comment date: June 9, 2000, in accordance with Standard Paragraph E at the end of this notice.

8. David B. Kinnard

[Docket No. ID-3496-000]

Take notice that on May 1, 2000, David B. Kinnard filed with the Federal Energy Regulatory Commission an Abbreviated Application for Authorization to Hold Interlocking Positions pursuant to section 305(b) of the Federal Power Act.

Comment date: June 9, 2000, in accordance with Standard Paragraph E at the end of this notice.

9. Roger L. Petersen

[Docket No. ID-3497-000]

Take notice that on May 1, 2000, Roger L. Peterson filed with the Federal Energy Regulatory Commission an Abbreviated Application to Hold Interlocking Positions pursuant to section 305(b) of the Federal Power Act.

Comment date: June 9, 2000, in accordance with Standard Paragraph E at the end of this notice.

10. Paul A. Farr

[Docket No. ID-3498-000]

Take notice that on May 1, 2000, Paul A. Farr filed with the Federal Energy Regulatory Commission an Abbreviated Application to Hold Interlocking Positions pursuant to section 305(b) of the Federal Power Act.

Comment date: June 9, 2000, in accordance with Standard Paragraph E at the end of this notice.

11. Robert W. Burke, Jr.

[Docket No. ID-3499-000]

Take notice that on May 1, 2000, Robert W. Burke, Jr. filed with the Federal Energy Regulatory Commission an Abbreviated Application to Hold Interlocking positions pursuant to section 305(b) of the Federal Power Act.

Comment date: June 9, 2000, in accordance with Standard Paragraph E at the end of this notice.

12. Lockhart Power Company

[Docket No. OA96-163-003]

Take notice that on April 28, 2000, Lockhart Power Company tendered for filing with the Federal Energy Regulatory Commission (Commission), a report in compliance with the Commission's order in Allegheny Power Service Co., et al., 90 FERC ¶ 61,224 (2000).

Comment date: June 9, 2000, in accordance with Standard Paragraph E at the end of this notice.

13. PPL Electric Utilities Corporation

[Docket No. OA97-688-001]

Take notice that on May 2, 2000, PPL Electric Utilities Corporation filed with the Federal Energy Regulatory Commission a report in compliance with the Commission's order in Allegheny Power Service Company, 90 FERC ¶ 61,224 (2000).

Comment date: June 9, 2000, in accordance with Standard Paragraph E at the end of this notice.

14. Orange and Rockland Utilities, Inc.

[Docket No. OA97-708-001]

Take notice that on May 2, 2000, Orange and Rockland Utilities, Inc. tendered for filing with the Federal Energy Regulatory Commission (Commission), a report in compliance with the Commission's order in Allegheny Power Service Co., et al., 90 FERC ¶ 61,224 (2000).

Comment date: June 9, 2000, in accordance with Standard Paragraph E at the end of this notice.

15. UtiliCorp United Inc.

[Docket No. ER00-175-001]

Take notice that on May 2, 2000, UtiliCorp United, Inc., tendered for filing supplements to its October 21, 1999, filing of rate schedules in Docket No. ER00-175-000.

Comment date: May 23, 2000, in accordance with Standard Paragraph E at the end of this notice.

16. California Independent System Operator Corporation

[Docket No. ER00-1365-001]

Take notice that on May 1, 2000, the California Independent System Operator Corporation (ISO), tendered for filing modifications to Amendment No. 26 of the ISO Tariff to comply with the Commission's order in California Independent System Operator Corp., 90 FERC ¶ 61,345 (2000). The ISO states that this filing has been served upon all parties in this proceeding.

Comment date: May 22, 2000, in accordance with Standard Paragraph E at the end of this notice.

17. Ameren Services Company

[Docket No. ER00-2362-000]

Take notice that on May 1, 2000, Ameren Services Company (Ameren), tendered for filing a revised Network Integration Transmission Service Agreement with the City of Newton, Illinois (Newton). The revised Agreement includes a Distribution Facilities Charge.

Ameren seeks an effective date of June 1, 2000, subject to conditions, or, in the alternative, an effective date of May 2, 2000. Accordingly, Ameren seeks waiver of the Commission's notice requirements.

Copies of the filing have been served on Newton and on the Illinois Commerce Commission.

Comment date: May 22, 2000, in accordance with Standard Paragraph E at the end of this notice.

18. Ameren Services Company

[Docket No. ER00-2364-000]

Take notice that on May 1, 2000, Ameren Services Company (Ameren), tendered for filing a revised unexecuted Network Integration Transmission Service Agreement (Network Transmission Agreement) and a revised Network Operating Agreement with Soyland Power Cooperative, Inc., (Soyland). The revised Network Transmission Agreement includes a Distribution Facilities Charge.

Ameren seeks an effective date of June 1, 2000, subject to conditions, or, in the alternative, an effective date of May 2, 2000 for the revised Network Transmission Agreement and a date sixty days from filing for the revised Network Operating Agreement. Accordingly, Ameren seeks waiver of the Commission's notice requirements with respect to the Network Transmission Agreement.

Copies of the filing have been served on Soyland and on the Illinois Commerce Commission.

Comment date: May 22, 2000, in accordance with Standard Paragraph E at the end of this notice.

19. Ameren Services Company

[Docket No. ER00-2365-000]

Take notice that on May 1, 2000, Ameren Services Company (Ameren), tendered for filing a revised unexecuted Network Integration Transmission Service Agreement (Network Transmission Agreement) and a revised Network Operating Agreement with Clay Electric Cooperative, Inc. (Clay). The revised Network Transmission Agreement includes a Distribution Facilities Charge.

Ameren seeks an effective date of June 1, 2000, subject to conditions, or, in the alternative, an effective date of May 2, 2000 for the revised Network Transmission Agreement and a date sixty days from filing for the revised Network Operating Agreement. Accordingly, Ameren seeks waiver of the Commission's notice requirements with respect to the Network Transmission Agreement. Copies of the filing have been served on Clay and on the Illinois Commerce Commission.

Comment date: May 22, 2000, in accordance with Standard Paragraph E at the end of this notice.

20. Ameren Services Company

[Docket No. ER00-2366-000]

Take notice that on May 1, 2000, Ameren Services Company (Ameren), tendered for filing a revised unexecuted Network Integration Transmission Service Agreement with Edgar Electric Cooperative Association (Edgar). The revised Agreement includes a Distribution Facilities Charge.

Ameren seeks an effective date of June 1, 2000, subject to conditions, or, in the alternative, an effective date of May 2, 2000. Accordingly, Ameren seeks waiver of the Commission's notice requirements.

Copies of the filing have been served on Edgar and on the Illinois Commerce Commission.

Comment date: May 22, 2000, in accordance with Standard Paragraph E at the end of this notice.

21. Ameren Services Company

[Docket No. ER00-2367-000]

Take notice that on May 1, 2000, Ameren Services Company (Ameren), tendered for filing a revised Network Integration Transmission Service Agreement with Cinergy Services, Inc., (Cinergy). The revised Agreement includes a Distribution Facilities Charge.

Ameren seeks an effective date of June 1, 2000, subject to conditions, or, in the alternative, an effective date of May 2, 2000. Accordingly, Ameren seeks waiver of the Commission's notice requirements.

Copies of the filing have been served on Cinergy and on the Illinois Commerce Commission.

Comment date: May 22, 2000, in accordance with Standard Paragraph E at the end of this notice.

22. CMS Marketing, Services and Trading Company

[Docket No. ER00-2368-000]

Take notice that on May 1, 2000, CMS Marketing, Services and Trading Company (Seller) tendered for filing an executed service agreement for wholesale power service to CMS MS&T Michigan, L.L.C. (Buyer) pursuant to Seller's Market Based.

Power Sales Tariff accepted for filing in Docket No. ER96-2350-000. The filing includes an administrative tariff amendment to facilitate acceptance of the service agreement.

The filing request has an effective date of June 1, 2000.

Copies of the filing have been served on the Michigan Public Service Commission and Buyer.

Comment date: May 22, 2000, in accordance with Standard Paragraph E at the end of this notice.

23. PG&E Energy Services Corporation

[Docket No. ER00-2369-000]

Take notice that on May 1, 2000, PG&E Energy Services Corporation (PGES), 345 California Street, Suite 3200, San Francisco, California 94104, tendered for filing revisions to its rate schedule FERC No. 1 providing for the resale of Firm Transmission Rights (FTRs) issued by the California Independent Service Operator Corporation pursuant the Commission's November 10, 1999 order in Docket No. ER98-3594-000 and agreements between PGES and its affiliate, PG&E Energy Trading-Power, L.P., concerning the resale of FTRs.

Comment date: May 22, 2000, in accordance with Standard Paragraph E at the end of this notice.

24. Allegheny Energy Supply Company, L.L.C.

[Docket No. ER00-2370-000]

Take notice that on May 1, 2000, Allegheny Energy Supply Company tendered for filing a Power Sales Agreement under which Allegheny Energy Supply provides the power and energy needed by West Penn Power Company, doing business as Allegheny Power, necessary to meet its obligations as a provider of last resort under the retail direct access program implemented in the Commonwealth of Pennsylvania.

AE Supply request waiver of the prior notice requirements and an effective date of November 18, 1999.

Comment date: May 22, 2000, in accordance with Standard Paragraph E at the end of this notice.

25. Southwestern Public Service Company

[Docket No. ER00-2371-000]

Take notice that on May 1, 2000, New Century Services, Inc., on behalf of Southwestern Public Service Company (SPS), tendered for filing the Interconnection Agreement between West Texas Municipal Power Agency and SPS. This agreement is intended to supersede the Interconnection Agreement filed in Docket No. ER96-1969-000.

Comment date: May 22, 2000, in accordance with Standard Paragraph E at the end of this notice.

26. New England Power Pool

[Docket No. ER00-2378-000]

Take notice that on May 1, 2000, the New England Power Pool (NEPOOL) Participants Committee tendered for filing for acceptance a signature page to the New England Power Pool Agreement dated September 1, 1971, as amended, signed by Praxair, Inc. (Praxair). The NEPOOL Agreement has been designated NEPOOL FPC No. 2.

The Participants Committee states that the Commission's acceptance of Praxair's signature page would permit NEPOOL to expand its membership to include Praxair. The Participants Committee further states that the filed signature page does not change the NEPOOL Agreement in any manner, other than to make Praxair a member in NEPOOL.

The Participants Committee requests an effective date of July 1, 2000, for commencement of participation in NEPOOL by Praxair.

Comment date: May 22, 2000, in accordance with Standard Paragraph E at the end of this notice.

27. Alliant Energy Corporate Services, Inc.

[Docket No. ER00-2379-000]

Take notice that on May 1, 2000, Alliant Energy Corporate Services, Inc., tendered for filing an amendment on behalf of IES Utilities Inc. (IES), Interstate Power Company (IPC) and Wisconsin Power and Light Company (WPL), in the above Dockets. This amendment is being filed because IES and IPC will join the Mid-America Interconnected Network, Inc.

Alliant Energy Corporate Services, Inc., requests an effective date of May 1, 2000, and accordingly, requests waiver of the Commission's notice requirements to permit the requested effective date.

A copy of this filing has been served upon the Illinois Commerce Commission, the Minnesota Public Utilities Commission, the Iowa Department of Commerce, the Public Service Commission of Wisconsin, and all parties listed on the service list as compiled by the Secretary in this proceeding.

Comment date: May 22, 2000, in accordance with Standard Paragraph E at the end of this notice.

28. Florida Power Corporation

[Docket No. ER00-2380-000]

Take notice that on May 2, 2000, Florida Power Corporation (Florida Power) tendered for filing a service agreement providing for non-firm point-to-point transmission service and a service agreement providing for short term firm point-to-point transmission service by Florida Power to Cargill-Alliant, LLC pursuant to its open access transmission tariff.

Florida Power requests that the Commission waive its notice of filing requirements and allow the agreements to become effective on May 1, 2000

Comment date: May 23, 2000, in accordance with Standard Paragraph E at the end of this notice.

29. Allegheny Energy Service Corporation, on behalf of Allegheny Energy Supply Company, LLC

[Docket No. ER00-2381-000]

Take notice that on May 2, 2000, Allegheny Energy Service Corporation on behalf of Allegheny Energy Supply Company, LLC (Allegheny Energy Supply), tendered for filing Amendment No. 1 to Supplement No. 31 to the Market Rate Tariff to incorporate a Netting Agreement with Cargill-Alliant, LLC into the tariff provisions.

Allegheny Energy Supply requests a waiver of notice requirements to make the Amendment effective as of April 19, 2000 or such other date as ordered by the Commission.

Copies of the filing have been provided to the Public Utilities Commission of Ohio, the Pennsylvania Public Utility Commission, the Maryland Public Service Commission, the Virginia State Corporation Commission, the West Virginia Public Service Commission, and all parties of record.

Comment date: May 23, 2000, in accordance with Standard Paragraph E at the end of this notice.

30. Allegheny Energy Service Corporation, on behalf of Allegheny Energy Supply Company, LLC

[Docket No. ER00-2382-000]

Take notice that on May 2, 2000, Allegheny Energy Service Corporation on behalf of Allegheny Energy Supply Company, LLC (Allegheny Energy Supply), tendered for filing Supplement No. 39 to add one (1) new Customer to the Market Rate Tariff under which Allegheny Energy Supply offers generation services.

Allegheny Energy Supply requests a waiver of notice requirements to make service available as of March 28, 2000 or on a date as determined by the Commission to Florida Power & Light Company.

Copies of the filing have been provided to the Public Utilities Commission of Ohio, the Pennsylvania Public Utility Commission, the Maryland Public Service Commission, the Virginia State Corporation Commission, the West Virginia Public Service Commission, and all parties of record.

Comment date: May 23, 2000, in accordance with Standard Paragraph E at the end of this notice.

31. California Independent System Operator Corporation

[Docket No. ER00-2383-000]

Take notice that on May 2, 2000, the California Independent System Operator Corporation (ISO), tendered for filing a proposed amendment (Amendment No. 29) to the ISO Tariff. Amendment No. 29 includes proposed changes to the ISO Tariff that implement ten-minute markets to reduce uninstructed deviations, enable the submission of Adjustment Bids with inter-Scheduling Coordinator trades, provide for the automation of Dispatch instructions, expand the membership of the independent Market Surveillance Committee, and modify the standards that Scheduling Coordinators must meet to avoid the need to post financial security in connection with their trades in ISO markets.

The ISO states that this filing has been served upon the Public Utilities Commission of California, the California Energy Commission, the California Electricity Oversight Board, and all parties with effective Scheduling Coordinator Service Agreements under the ISO Tariff.

Comment date: May 23, 2000, in accordance with Standard Paragraph E at the end of this notice.

32. Alliant Energy Corporate Services, Inc.

[Docket No. ER00-2384-000]

Take notice that on April 26, 2000, Alliant Energy Corporate Services, Inc. (Alliant Energy) on behalf of Interstate Power Company (IPC), tendered for filing a Unit Participation Capacity Transaction (Agreement) between IPC and IES Utilities Inc., for the period May 1, 2000 through September 30, 2000. The Agreement was negotiated to provide service under the Alliant Energy System Coordination and Operating Agreement among IES Utilities Inc., Interstate Power Company, Wisconsin Power & Light and Alliant Energy.

Comment date: May 23, 2000, in accordance with Standard Paragraph E at the end of this notice.

33. New England Power Pool

Docket No. ER00-2385-000

Take notice that on May 2, 2000, the New England Power Pool (NEPOOL) Participants Committee and Transmission Owners submitted as a supplement to the NEPOOL Open Access Transmission Tariff (the NEPOOL Tariff) Appendix A to the implementation rule for Ancillary Service Schedule 1 (Scheduling, System Control and Dispatch Service) of the NEPOOL Tariff. Appendix A sets forth the detailed methodology, in accordance with the previously-approved implementation rule for Schedule 1, for recovery of costs associated with the ownership of certain control center facilities required to provide scheduling, system control and dispatch services.

The NEPOOL Participants Committee and Transmission Owners state that copies of these materials were sent to the NEPOOL Participants and the six New England State governors and regulatory commissions.

Comment date: May 23, 2000, in accordance with Standard Paragraph E at the end of this notice.

34. California Power Exchange Corporation

Docket No. ER00-2386-000

Take notice that on May 2, 2000, California Power Exchange Corporation (CalPX), on behalf of its CalPX Trading Services Division (CTS), tendered for filing proposed Amendment No. 3 to its CTS Rate Schedule FERC No. 1. Amendment No. 3 is designed to allow CTS to implement two new services in response to demand from CTS participants and the market: (1) A daily block forward market; and (2) a balance of the month market.

CTS requests waiver of the Commission's notice provisions to permit an effective date of June 29, 2000 for delivery on July 1, 2000. If the Commission does not grant the requested waiver, CTS requests an effective date of July 2, 2000 for delivery on the next delivery day for the applicable block.

Comment date: May 23, 2000, in accordance with Standard Paragraph E at the end of this notice.

35. California Power Exchange Corporation

Docket No. ER00-2387-000

Take notice that on May 2, 2000, the California Power Exchange Corporation (CalPX), tendered for filing proposed amendments of Schedule Nos. 3 and 4 of its FERC Electric Service Tariff No. 3. These proposed amendments collectively comprise CalPX's Tariff Amendment No. 14. The purpose of the amendments is to enable CalPX to track the changes to be implemented by Tariff No. 26 of the California Independent System Operator Corporation (CAISO). The Commission accepted CAISO Tariff Amendment No. 26 with certain conditions in an order issued in Docket No. ER00-1365-000 on March 31, 2000.

Consistent with that order, CalPX requests an effective date for its Tariff Amendment No. 14 of ten days after the software modifications of both CalPX and CAISO are complete.

Comment date: May 23, 2000, in accordance with Standard Paragraph E at the end of this notice.

36. Commonwealth Edison Company

Docket No. ER00-2388-000

Take notice that on May 2, 2000, Commonwealth Edison Company (ComEd), tendered for filing a Short-Term Firm Transmission Service Agreement (Agreement) establishing Alliant Energy Corporate Services, Inc. (Alliant), as a short-term firm customer under the terms of ComEd's OATT.

ComEd requests an effective date of July 22, 1998 to coincide with the first day of service to Alliant under this type of Service Agreement. Copies of this filing were served on Alliant.

Comment date: May 23, 2000, in accordance with Standard Paragraph E at the end of this notice.

37. Central Vermont Public Service Corporation

Docket No. ER00-2389-000

Take notice that on May 2, 2000, Central Vermont Public Service Corporation tendered for filing a Transmission Service Agreement—Amendment No. 1 between Central Vermont Public Service Corporation and Green Mountain Power Company. Central Vermont also filed a certificate of concurrence executed by Green Mountain. Central Vermont states that the Amendment modifies the terms on which the parties operate the interconnections between them.

Copies of the filing were served upon Green Mountain and the Vermont Public Service Board.

Comment date: May 23, 2000, in accordance with Standard Paragraph E at the end of this notice.

38. PPL Electric Utilities Corporation

[Docket Nos. ER00-2390-000]

Take notice that on May 2, 2000, PPL Utilities Corporation (PPL Utilities), formerly known as PP&L, Inc. filed a notice of cancellation of PPL Utilities' Open Access Transmission Tariff (Tariff), FERC Electric Tariff Volume No. 4. No customers have or are taking service under the Tariff.

PPL Utilities requests an effective date of the cancellation of July 3, 2000.

Notice of the proposed cancellation has been served upon all entities that have signed service agreements under the Tariff.

Comment date: May 23, 2000, in accordance with Standard Paragraph E at the end of this notice.

39. Indianapolis Power & Light Company

[Docket No. ES00-33-000]

Take notice that on May 2, 2000, Indianapolis Power & Light Company submitted an application pursuant to Section 204 of the Federal Power Act seeking Commission authorization to issue short-term debt instruments in an amount not to exceed $500 million, from time to time, for a period commencing July 30, 2000, through July 29, 2002.

Comment date: May 31, 2000, in accordance with Standard Paragraph E at the end of this notice.

40. Doswell Limited Partnership

[Docket No. ER00-2391-000]

Take notice that on May 2, 2000, Doswell Limited Partnership (Doswell) petitioned the Commission for (1) Acceptance of Doswell Rate Schedule FERC No. 2 and Form of Service Agreement; (2) acceptance of the Power Purchase Agreement entered into on April 17, 2000, between Doswell and Virginia Electric Power Company; (3) the granting of certain blanket approvals, including the authority to sell electricity at market-based rates; and (4) the waiver of certain Commission Regulations.

Comment date: May 23, 2000, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-12468 Filed 5-17-00; 8:45 am]

BILLING CODE 6717-01-P